DEPARTMENT OF HEALTH AND HUMAN SERVICES

Office of the Secretary

Agency Information Collection Activities: Submission for OMB Review; Comment Request

The Department of Health and Human Services, Office of the Secretary publishes a list of information collections it has submitted to the Office of Mnagement and Budget (OMB) for clearance in compliance with the Paperwork Reduction Act of 1995 (44 U.S.C. Chapter 35) and 5 CFR 1320.5. The following are those information collections recently submitted to OMB.

1. Office of Research Integrity Educational Program: A Needs Assessment—NEW—The Office of Research Integrity (ORI) is proposing a survey of officials of research institutions to collect information on training needs in the areas of the promotion of research integrity and the prevention of scientific misconduct. The results of this survey will be used to develop a strategic plan for the ORI educational program which will be consistent with the recent organizational change requiring ORI to place greater emphasis on education and prevention. Respondents: Research Institutions; Number of Respondents: 500; Burden per Response: 10 minutes; Total Burden: 84 hours.

OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Mnagement and Budget, New Executive Office Building, Room 10235, 725 17th Street NW., Washington, DC 20503.

Comments may also be sent to Cynthia Agens Bauer, OS Reports Clearance Officer, Room 503H, Humphrey Building, 200 Independence Avenue SW., Washington DC, 20201. Written comments should be received within 30 days of this notice.

Dated: January 29, 2001.
Kerry Weems
Acting Deputy Assistant Secretary, Budget.

[FR Doc. 01-3737 Filed 2-13-01; 8:45 am]

BILLING CODE 4150-31-M